DEPARTMENT OF HEALTH AND HUMAN SERVICES

Health Resources and Services Administration

National Practitioner Data Bank Guidebook

AGENCY: Health Resources and Services Administration (HRSA), Department of Health and Human Services.

ACTION: Notice.

SUMMARY: HRSA's Division of Practitioner Data Bank (DPDB) announces the release of the revised user National Practitioner Data Bank (NPDB) Guidebook. NPDB is a confidential information clearinghouse created by Congress and intended to facilitate a comprehensive review of the professional credentials of health care practitioners, entities, providers, and suppliers. The NPDB Guidebook is the primary policy document explaining the statutes and regulations behind and operation of the NPDB. It serves as an essential reference for NPDB users, offering reporting and querying examples, explanations, definitions, and frequently asked questions.

FOR FURTHER INFORMATION CONTACT: David Loewenstein, Director, DPDB, Bureau of Health Workforce, Health Resources and Services Administration, 301-443-2300, NPDBPolicy@hrsa.gov.

SUPPLEMENTARY INFORMATION: When the NPDB Guidebook was last revised in April 2015, substantial updates altered the regulatory scope, content, and display of the Guidebook. The new Guidebook incorporates information and infographics that augment or further clarify existing Guidebook topics and does not include any significant policy changes. The new NPDB Guidebook is now available at www.npdb.hrsa.gov.

Dated: November 6, 2018.
George Sigounas,
Administrator.

[FR Doc. 2018-24694 Filed 11-9-18; 8:45 am]

BILLING CODE 4165-15-P